DEPARTMENT OF COMMERCE

Submission for OMB Review; Comment Request

The Department of Commerce (DOC) has submitted to the Office of Management and Budget (OMB) for clearance the following proposal for collection of information under provisions of the Paperwork Reduction Act (44 U.S.C. chapter 35).

Agency: Bureau of Industry and Security (BIS).

Title: Import Certificates, End-User Certificates, and Delivery Verification Procedures.

Agency Form Number: None.

OMB Approval Number: 0694-0093.

Type of Request: Extension of a currently approved collection.

Burden: 645 hours.

Average Time Per Response: 15 to 30 minutes per response.

Number of Respondents: 2,221 respondents.

Needs and Uses: Import or End-User Certificates are an undertaking by the government of the country of ultimate destination (the issuing government) to exercise legal control over the disposition of the items covered by the importer (ultimate consignee or purchaser) and transmitted to the exporter (applicant). The control exercised by the government issuing the Import or End-User Certificate is in addition to the conditions and restrictions placed on the transaction by BIS. This collection of information also contains recordkeeping and reporting requirements that involve Import or End-user Certificates as supporting documentation accompanying an application for an export license (approved by OMB under control no. 0694-0088). Another reporting requirement allows exporters to request an exception to the imports certificate (or its equivalent) procedure. This reporting requirement also covers requests for exceptions to the delivery verification procedure.

Affected Public: Individuals, businesses or other for-profit institutions.

Respondent's Obligation: Required to obtain or retain benefits.

OMB Desk Officer: David Rostker.

Copies of the above information collection proposal can be obtained by calling or writing Diana Hynek, DOC Paperwork Clearance Officer, (202) 482-0266, Department of Commerce, Room 6625, 14th and Constitution Avenue, NW., Washington, DC 20230.

Written comments and recommendations for the proposed information collection should be sent within 30 days of publication of this notice to David Rostker, OMB Desk Officer, e-mail address, David_Rostker@omb.eop.gov, or fax number, (202) 395-7285.

Dated: July 15, 2005.
Madeleine Clayton,
Management Analyst, Office of the Chief Information Officer.

[FR Doc. 05-14323 Filed 7-20-05; 8:45 am]

BILLING CODE 3510-33-P